SECURITIES AND EXCHANGE COMMISSION

Sunshine Act Meeting

Notice is hereby given, pursuant to the provisions of the Government in the Sunshine Act, Public Law 94-409, that the Securities and Exchange Commission will hold an Open Meeting on Tuesday, March 4, 2008 at 10 a.m., in Room L-002, the Auditorium.

The subject matter of the Open Meeting scheduled for March 4, 2008 will be:

1. The Commission will consider whether to propose two new rules under the Investment Company Act concerning exchange-traded funds (“ETFs”). Proposed Rule 6c-11 would provide exemptions from restrictions of the Act, to permit ETFs to operate without the need to obtain individual exemptive orders from the Commission. The Commission also will consider related disclosure amendments, and rule revisions concerning fund of funds restrictions of that Act.

2. The Commission will consider whether to propose a rule directed at misrepresentations in connection with a seller's ability or intent to deliver securities by settlement date.

3. The Commission will consider a recommendation to propose amendments to Regulation S-P, which governs the privacy of consumer financial information. The amendments would address the Rule's provisions related to the safeguarding and disposal of financial information, and would specify information that may be transferred when employees of broker-dealers or investment advisers change firms.

Commissioner Casey, as duty officer, determined that no earlier notice of the Open Meeting was possible.

For further information and to ascertain what, if any, matters have been added, deleted or postponed, please contact:

The Office of the Secretary at (202) 551-5400.

Dated: February 27, 2008.
Florence E. Harmon,
Deputy Secretary.

[FR Doc. E8-4083 Filed 3-3-08; 8:45 am]

BILLING CODE 8011-01-P